DEPARTMENT OF ENERGY

Federal Energy Regulatory Commission

Notice of Effectiveness of Exempt Wholesale Generator or Foreign Utility Company Status

January 29, 2008.

| Docket Nos.
Reliant Energy Mandalay, Inc | EG08-1-000
Arlington Wind Power Project LLC | EG08-2-000
Forked River Power LLC | EG08-3-000
FPL Energy Oliver Wind II, LCC | EG08-4-000
Marble River, LLC | EG08-5-000
Santa Rosa Energy Center, LLC | EG08-6-000
Long Beach Peakers LLC | EG08-7-000
Plum Point Energy Associates, L.L.C | EG08-8-000
Wharton County Generation, LLC | EG08-9-000
Macquarie Bank Limited | FC08-1-000

Take notice that during the month of December 2007, the status of the above-captioned entities as Exempt Wholesale Generators or Foreign Utility Companies became effective by operation of the Commission's regulations. 18 CFR 366.7(a).

Kimberly D. Bose,
Secretary.

[FR Doc. E8-2109 Filed 2-5-08; 8:45 am]

BILLING CODE 6717-01-P